DEPARTMENT OF TRANSPORTATION

Federal Aviation Administration

14 CFR Part 71

[Docket No. FAA-2017-0724; Airspace Docket No. 17-AGL-1]

Proposed Amendment and Removal of VOR Federal Airways in the Vicinity of Lansing, MI, and Pontiac, MI

AGENCY: Federal Aviation Administration (FAA), DOT.

ACTION: Notice of proposed rulemaking (NPRM).

SUMMARY: This action proposes to modify VHF Omnidirectional Range (VOR) Federal airways V-2, V-26, V-84, V-218, and V-510 in the vicinity of Lansing, MI, and to remove airway V-410 in the vicinity of Pontiac, MI. The proposed modifications are required due to the planned decommissioning of the Lansing, MI, VHF Omnidirectional Range/Tactical Air Navigation (VORTAC) and the Pontiac, MI, VORTAC navigation aids which provide navigation guidance for portions of the above routes. Three additional VOR Federal airways impacted by the planned Lansing VORTAC decommissioning (V-45, V-103, and V-233) were proposed for amendment previously in a separate NPRM.

DATES: Comments must be received on or before September 7, 2017.

ADDRESSES: Send comments on this proposal to the U.S. Department of Transportation, Docket Operations, 1200 New Jersey Avenue SE., West Building Ground Floor, Room W12-140, Washington, DC 20590; telephone: 1(800) 647-5527, or (202) 366-9826. You must identify FAA Docket No. FAA-2017-0724 and Airspace Docket No. 17-AGL-1 at the beginning of your comments. You may also submit comments through the Internet at http://www.regulations.gov. You may review the public docket containing the proposal, any comments received, and any final disposition in person in the Dockets Office between 9:00 a.m. and 5:00 p.m., Monday through Friday, except Federal holidays. The Docket Office (telephone 1 (800) 647-5527), is on the ground floor of the building at the above address.

FAA Order 7400.11A, Airspace Designations and Reporting Points, and subsequent amendments can be viewed online at http://www.faa.gov/air_traffic/publications/. For further information, you can contact the Airspace Policy Group, Federal Aviation Administration, 800 Independence Avenue SW., Washington, DC 20591; telephone: (202) 267-8783. The Order is also available for inspection at the National Archives and Records Administration (NARA). For information on the availability of FAA Order 7400.11A at NARA, call (202) 741-6030, or go to http://www.archives.gov/federal_register/code_of_federal-regulations/ibr_locations.html.

FAA Order 7400.11, Airspace Designations and Reporting Points, is published yearly and effective on September 15.

FOR FURTHER INFORMATION CONTACT: Colby Abbott, Airspace Policy Group, Office of Airspace Services, Federal Aviation Administration, 800 Independence Avenue SW., Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it modifies the National Airspace System (NAS) route structure as necessary to preserve the safe and efficient flow of air traffic within the NAS.

Comments Invited

Interested parties are invited to participate in this proposed rulemaking by submitting such written data, views, or arguments as they may desire. Comments that provide the factual basis supporting the views and suggestions presented are particularly helpful in developing reasoned regulatory decisions on the proposal. Comments are specifically invited on the overall regulatory, aeronautical, economic, environmental, and energy-related aspects of the proposal.

Communications should identify both docket numbers (FAA Docket No. FAA-2017-0724 and Airspace Docket No. 17-AGL-1) and be submitted in triplicate to the Docket Management Facility (see ADDRESSES section for address and phone number). You may also submit comments through the internet at http://www.regulations.gov.

Commenters wishing the FAA to acknowledge receipt of their comments on this action must submit with those comments a self-addressed, stamped postcard on which the following statement is made: “Comments to FAA Docket No. FAA-2017-0724 and Airspace Docket No. 17-AGL-1.” The postcard will be date/time stamped and returned to the commenter.

All communications received on or before the specified comment closing date will be considered before taking action on the proposed rule. The proposal contained in this action may be changed in light of comments received. All comments submitted will be available for examination in the public docket both before and after the comment closing date. A report summarizing each substantive public contact with FAA personnel concerned with this rulemaking will be filed in the docket.

Availability of NPRMs

An electronic copy of this document may be downloaded through the internet at http://www.regulations.gov. Recently published rulemaking documents can also be accessed through the FAA's Web page at http://www.faa.gov/air_traffic/publications/airspace_amendments/.

You may review the public docket containing the proposal, any comments received and any final disposition in person in the Dockets Office (see ADDRESSES section for address and phone number) between 9:00 a.m. and 5:00 p.m., Monday through Friday, except Federal holidays. An informal docket may also be examined during normal business hours at the office of the Operations Support Group, Central Service Center, Federal Aviation Administration, 10101 Hillwood Blvd., Fort Worth, TX, 76177.

Availability and Summary of Documents for Incorporation by Reference

This document proposes to amend FAA Order 7400.11A, Airspace Designations and Reporting Points, dated August 3, 2016, and effective September 15, 2016. FAA Order 7400.11A is publicly available as listed in the ADDRESSES section of this document. FAA Order 7400.11A lists Class A, B, C, D, and E airspace areas, air traffic service routes, and reporting points.

Background

The FAA is planning decommissioning activities for the Lansing, MI, and Pontiac, MI, VORTACs to take place in 2018. These VORTACs were identified for discontinuance by the VOR Minimum Operating Network (VOR MON) program and listed in the Final policy statement notice, “Provision of Navigation Services for the Next Generation Air Transportation System (NextGen) Transition to Performance-Based Navigation (PBN) (Plan for Establishing a VOR Minimum Operational Network),” published in the Federal Register of July 26, 2016 (81FR 48694), Docket No. FAA-2011-1082.

With the planned decommissioning of the Lansing, MI, and Pontiac, MI, VORTACs, the FAA has determined the remaining ground-based NAVAID coverage in the areas is insufficient to enable the continuity of the affected airways. As such, proposed modifications to VOR Federal airways V-2, V-26, V-84, V-218, and V-510 will result in gaps in the route structures. Additionally, the V-410 is proposed to be removed as well. To overcome the gaps that would result in the route structures, the FAA plans to amend the current fixes contained within the project area by converting them into RNAV waypoints that would remain in place to assist pilots and air traffic controllers already familiar with them, for navigation purposes. Instrument flight rules (IFR) traffic could file point-to-point through the affected area using the waypoint fixes that will remain in place, or could receive air traffic control (ATC) radar vectors through the area. VFR pilots who elect to navigate via airways through the affected area could also take advantage of the waypoint fixes or ATC services listed previously.

The Proposal

The FAA is proposing an amendment to Title 14, Code of Federal Regulations (14 CFR) part 71 to modify the descriptions of VOR Federal airways V-2, V-26, V-84, V-218, and V-510; and to remove V-410, due to the planned decommissioning of the Lansing, MI, and Pontiac, MI, VORTACs. Three additional VOR Federal airways impacted by the planned decommissioning of the Lansing and Pontiac VORTACs (V-45, V-103, and V-233) have been proposed for amendment in a separate NPRM (82 FR 11859, February 27, 2017) and are not addressed in this action. The proposed route changes for this action are described below.

V-2: V-2 currently extends between the Seattle, WA, VORTAC and the Gardner, MA, VOR/DME, excluding the airspace within Canada. In a separate NPRM, the FAA proposed to remove the airway segment between the Lansing, MI, VORTAC and the Buffalo, NY, VOR/DME and the exclusion statement for the airspace within Canada (82 FR 11859, February 27, 2017). The FAA now proposes to remove the airway segment between the intersection of the Nodine, MN, 122°(T)/121°(M) and Waukon, IA, 053°(T)/048°(M) radials (WEBYE fix) and the Lansing, MI, VORTAC in this NPRM. The unaffected portions of the existing airway would remain as charted in the two remaining segments.

V-26: V-26 currently extends between the Blue Mesa, CO, VOR/DME and the Dryer, OH, VOR/DME, excluding the airspace within Canada. In a separate NPRM, the FAA proposed to remove the airway segment between the Lansing, MI, VORTAC and the Dryer, OH, VOR/DME and the exclusion statement for the airspace within Canada (82 FR 11859, February 27, 2017). The FAA now proposes to remove the airway segment between the White Cloud, MI, VOR/DME and the Lansing, MI, VORTAC in this NPRM. The unaffected portions of the existing airway would remain as charted.

V-84: V-84 currently extends between the Northbrook, IL, VOR/DME and the Flint, MI, VORTAC; and between the Buffalo, NY, VOR/DME and the Syracuse, NY, VORTAC. In a separate NPRM, the FAA proposed to remove the airway segment between the Lansing, MI, VORTAC and the Flint, MI, VORTAC (82 FR 11859, February 27, 2017). The FAA proposes to remove the airway segment between the Pullman, MI, VOR/DME and the Lansing, MI, VORTAC in this NPRM. The unaffected portions of the existing airway would remain as charted in the two remaining segments.

V-218: V-218 currently extends between the Grand Rapids, MN, VOR/DME and the Rockford, IL, VOR/DME; and between the Keeler, MI, VOR/DME and the Lansing, MI, VORTAC. In a separate final rule action effective August 17, 2017, the FAA added and re-designated a portion of the V-161 airway between the International Falls, MN, VORTAC and the Grand Rapids, MN, VOR/DME to V-218 (82 FR 27986, June 20, 2017). The FAA now proposes to remove the airways segments between the Waukon, IA, VORTAC and the Rockford, IL, VOR/DME; and between the Keeler, MI, VOR/DME and the Lansing, MI, VORTAC in this NPRM. The unaffected portion of the existing airway would remain as charted.

V-410: V-410 currently extends between the Pontiac, MI, VORTAC and the London, ON, Canada VOR/DME, excluding the airspace within Canada. The FAA proposes to remove the airway in its entirety.

V-510: V-510 currently extends between the Dickinson, ND, VORTAC and the Dells, WI, VORTAC; and between the Oshkosh, WI, VORTAC and the Lansing, MI, VORTAC; and between the Buffalo, NY, VOR/DME and the Rochester, NY, VOR/DME. The FAA proposes to remove the airway segment between the Oshkosh, WI, VORTAC and the Lansing, MI, VORTAC. The unaffected portions of the existing airway will remain as charted in the two remaining segments.

All radials in the route descriptions below that do not reflect True (T)/Magnetic (M) degree radial information are unchanged and stated in True degrees.

VOR Federal airways are published in paragraph 6010(a) of FAA Order 7400.11A, dated August 3, 2016, and effective September 15, 2016, which is incorporated by reference in 14 CFR 71.1. The VOR Federal airways listed in this document will be subsequently published in the Order.

Regulatory Notices and Analyses

The FAA has determined that this proposed regulation only involves an established body of technical regulations for which frequent and routine amendments are necessary to keep them operationally current. It, therefore: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

Environmental Review

This proposal will be subject to an environmental analysis in accordance with FAA Order 1050.1F, “Environmental Impacts: Policies and Procedures” prior to any FAA final regulatory action.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11A, Airspace Designations and Reporting Points, dated August 3, 2016 and effective September 15, 2016, is amended as follows:

Paragraph 6010(a) Domestic VOR Federal Airways.

* * * * *

V-2 [Amended]

From Seattle, WA; Ellensburg, WA; Moses Lake, WA; Spokane, WA; Mullan Pass, ID; Missoula, MT; Helena, MT; INT Helena 119° and Livingston, MT, 322° radials; Livingston; Billings, MT; Miles City, MT; 24 miles, 90 miles, 55 MSL, Dickinson, ND; 10 miles, 60 miles, 38 MSL, Bismarck, ND; 14 miles, 62 miles, 34 MSL, Jamestown, ND; Fargo, ND; Alexandria, MN; Gopher, MN; Nodine, MN; to INT Nodine 122°(T)/121°(M) and Waukon, IA, 053°(T)/048°(M) radials. From Buffalo, NY; Rochester, NY; Syracuse, NY; Utica, NY; Albany, NY; INT Albany 084° and Gardner, MA, 284° radials; to Gardner.

* * * * *

V-26 [Amended]

From Blue Mesa, CO; Montrose, CO; 13 miles, 112 MSL, 131 MSL; Grand Junction, CO; Meeker, CO; Cherokee, WY; Muddy Mountain, WY; 14 miles 12 AGL, 37 miles 75 MSL, 84 miles 90 MSL, 17 miles 12 AGL; Rapid City, SD; Philip, SD; Pierre, SD; Huron, SD; Redwood Falls, MN; Farmington, MN; Eau Claire, WI; Waussau, WI; Green Bay, WI; INT Green Bay 116° and White Cloud, MI, 302° radials; to White Cloud.

* * * * *

V-84 [Amended]

From Northbrook, IL; to Pullman, MI. From Buffalo, NY; Geneseo, NY; INT Geneseo 091° and Syracuse, NY, 240° radials; to Syracuse.

* * * * *

V-218 [Amended]

From International Falls, MN; Grand Rapids, MN; Gopher, MN; to Waukon, IA.

* * * * *

V-410 [Removed]

* * * * *

V-510 [Amended]

From Dickinson, ND; INT Dickinson 078° and Bismarck, ND, 290° radials, 28 miles, 38 MSL, Bismarck; INT Bismarck 067° and Jamestown, ND, 279° radials, 14 miles, 65 miles, 34 MSL, Jamestown; Fargo, ND; INT Fargo 110° and Alexandria, MN, 321° radials; Alexandria; INT Alexandria 110° and Gopher, MN, 321° radials; Gopher; INT Gopher 109° and Nodine, MN, 328° radials; Nodine; to Dells, WI. From Buffalo, NY; INT Buffalo 045° and Rochester, NY, 273° radials; to Rochester.

Issued in Washington, DC, on July 17, 2017.
Scott M. Rosenbloom,
Acting Manager, Airspace Policy Group.

[FR Doc. 2017-15390 Filed 7-21-17; 8:45 am]

BILLING CODE 4910-13-P